NATIONAL AERONAUTICS AND SPACE ADMINISTRATION

[Notice (03-129)]

NASA Space Science Advisory Committee, Astronomical Search for Origins and Planetary Systems Subcommittee; Meeting

AGENCY: National Aeronautics and Space Administration.

ACTION: Notice of meeting.

SUMMARY: The National Aeronautics and Space Administration announces a meeting of the NASA Space Science Advisory Committee (SScAC), Astronomical Search for Origins and Planetary Systems Subcommittee (OS).

DATES: Thursday, October 23, 2003, 8:30 a.m. to 5:30 p.m.; and Friday, October 24, 2003, 8:30 a.m. to 3 p.m.

ADDRESSES: Inn and Conference Center, University of Maryland, 3501 University Boulevard East, Adelphi, Maryland 20783.

FOR FURTHER INFORMATION CONTACT: Dr. Hashima Hasan, Code SZ, National Aeronautics and Space Administration, Washington, DC 20546, 202/395-0710, hhasan@hq.nasa.gov.

SUPPLEMENTARY INFORMATION: The meeting will be open to the public up to the seating capacity of the room. The agenda for the meeting is as follows:

—Report by Astronomy and Physics Director

—NASA's response to the Bahcall Report on Hubble Space Telescope-James Webb Space Telescope Transition

—Report by Astronomical Search for Origins and Planetary Theme Scientist

—Mission Updates: James Webb Space Telescope, Terrestrial Planet Finder

It is imperative that the meeting be held on these dates to accommodate the scheduling priorities of the key participants. Visitors will be requested to sign a visitor's register.

June W. Edwards,
Advisory Committee Management Officer, National Aeronautics and Space Administration.

[FR Doc. 03-25829 Filed 10-9-03; 8:45 am]

BILLING CODE 7510-01-P